DEPARTMENT OF ENERGY

Federal Energy Regulatory Commission

[Docket No. CP01-157-000]

Georgia-Pacific Corp.; Notice of Petition for Declaratory Order

April 24, 2001.

Take notice that on April 16, 2001, Georgia-Pacific Corporation (Georgia-Pacific) filed a petition for a declaratory order in the above-styled proceeding, requesting that the Federal Energy Regulatory Commission issue an order declaring that a prospective lease or other long-term arrangement under which a third-party owner of an industrial facility has the right to a portion of the capacity of Georgia-Pacific's pipeline that crosses the Arkansas/Louisiana border: (1) Shall not constitute the transportation of natural gas in interstate commerce; and (2) shall not subject such pipeline to any greater Commission regulation or oversight than currently in place.

Any person desiring to be heard or to protest said filing should file a motion to intervene or a protest with the Federal Energy Regulatory Commission, 888 First Street, NE., Washington, DC 20426, in accordance with §§ 385.214 or 385.211 of the Commission's Rules and Regulations. All such motions or protests must be filed on or before May 15, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-10584 Filed 4-27-01; 8:45 am]

BILLING CODE 6717-01-M